DEPARTMENT OF TRANSPORTATION

Federal Aviation Administration

14 CFR Part 39

[Docket No. FAA-2012-0595; Directorate Identifier 2012-NM-055-AD; Amendment 39-17262; AD 2012-23-06]

RIN 2120-AA64

Airworthiness Directives; The Boeing Company Airplanes

AGENCY: Federal Aviation Administration (FAA), DOT.

ACTION: Final rule.

SUMMARY: We are adopting a new airworthiness directive (AD) for certain The Boeing Company Model 777 airplanes. This AD was prompted by reports of failure of wire support clamps in the forward section of the aft pressure bulkhead. This AD requires a detailed inspection of the clamps on the power feeder cable of the auxiliary power unit (APU) to determine if certain clamps are installed, and related investigative and corrective actions if necessary. We are issuing this AD to prevent failure of the clamp, which could result in wire chafing and potential arcing and consequent fire in section 48 (a flammable fluid leakage zone) or heat damage to the APU power feeder cable, insulation blankets, or pressure bulkhead.

DATES: This AD is effective December 31, 2012.

The Director of the Federal Register approved the incorporation by reference of a certain publication listed in the AD as of December 31, 2012.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Georgios Roussos, Aerospace Engineer, Systems and Equipment Branch, ANM-130S, FAA, Seattle Aircraft Certification Office, 1601 Lind Avenue SW., Renton, WA 98057-3356; phone: (425) 917-6482; fax: (425) 917-6590; email: georgios.roussos@faa.gov.

SUPPLEMENTARY INFORMATION:

Discussion

We issued a notice of proposed rulemaking (NPRM) to amend 14 CFR part 39 to include an AD that would apply to the specified products. That NPRM published in the Federal Register on June 12, 2012 (77 FR 34876). That NPRM proposed to require a detailed inspection of the clamps on the power feeder cable of the APU to determine if certain clamps are installed, and related investigative and corrective actions if necessary.

Comments

We gave the public the opportunity to participate in developing this AD. The following presents the comments received on the proposal and the FAA's response to each comment. American Airlines and United Airlines stated they will incorporate the requirements of the NPRM (77 FR 34876, June 12, 2012).

Request To Remove Paragraph (h) of the NPRM (77 FR 34876, June 12, 2012)

Boeing requested that paragraph (h) of the NPRM (77 FR 34876, June 12, 2012), “Exception to the Service Bulletin,” be removed from the NPRM. Boeing stated that paragraph (h) of the NPRM requires repair of the APU power feeder, insulation blankets, and clamps, if no primer discoloration or structural damage is found. Boeing stated that paragraph (h) of the NPRM is redundant to steps 3.B.6.f.(2) of the Accomplishment Instructions of Boeing Alert Service Bulletin 777-24A0119, dated November 11, 2011, which accomplishes the replacement and repair of all damaged components found during the progressive detailed inspection outlined in that service bulletin.

We disagree with Boeing's request to remove paragraph (h) of this AD. Step 3.B.6.f.(2) of the Accomplishment Instructions of Boeing Alert Service Bulletin 777-24A0119, dated November 11, 2011, is part of the requirements of step 3.B.6.b. of that service bulletin, which states, “If visual indications of heat damage are found, do steps 6.c through 6.f.” However, if no primer discoloration or structural deterioration is detected after doing the inspection specified in 3.B.6.a. of that service bulletin, the service information does not specify which step to accomplish next, which is repairing the APU power feeder cable and insulation blanket, and replacing the existing clamps. We have not changed this final rule in this regard.

Request To Clarify the “Differences Between the Proposed AD and the Service Information” Section of the NPRM (77 FR 34876, June 12, 2012)

FedEx requested clarification regarding the statement in the “Differences Between the Proposed AD and the Service Information” section of the NPRM (77 FR 34876, June 12, 2012), and the statement in Boeing Alert Service Bulletin 777-24A0119, dated November 11, 2011, to contact Boeing for repair instructions. FedEx stated that, in the “Differences Between the Proposed AD and the Service Information” section, the repairs will be addressed in one of the following ways: In accordance with a method approved by the FAA, or using data that meets the certification basis of the airplane, and has been approved by Boeing Commercial Airplanes Organization Designation Authorization (ODA). FedEx stated that it would like to know if any repair design by the airline will require an alternative method of compliance (AMOC), and whether Boeing will provide repair methods in a revised service bulletin, or if the airline will have to provide Boeing with information on the damage and request a repair. FedEx stated that standard repair methods, if listed in the service information, would expedite the repair, especially if the repair would need to be “bought off” by an airline certified structures inspector.

We agree to clarify the intent of the “Differences Between the Proposed AD and the Service Information” section in the NPRM (77 FR 34876, June 12, 2012). Any deviation from the Accomplishment Instructions of Boeing Alert Service Bulletin 777-24A0119, dated November 11, 2011, requires an AMOC approval. Also, as stated in paragraph (i) of this AD, where that service bulletin specifies to contact Boeing for the repair, the repair must be done in accordance with the procedures specified in paragraph (j) of this AD, which is the “Alternative Methods of Compliance (AMOCs)” paragraph of this AD. The AMOC requests, whether the structural repair design is developed by the airline or by Boeing engineering, could either be approved by the Manager of the Seattle Aircraft Certification Office, or by the Boeing ODA that has been authorized by the Manager, Seattle ACO, to approve AMOC requests specifically for this AD. We understand FedEx's concern on the potential delays due to the absence of standard structural repair methods in Boeing Alert Service Bulletin 777-24A0119, dated November 11, 2011; however, we have not received any information from the manufacturer on whether that service bulletin will be revised. We have not changed this final rule in this regard.

Conclusion

We reviewed the relevant data, considered the comments received, and determined that air safety and the public interest require adopting the AD as proposed.

Costs of Compliance

We estimate that this AD affects 164 airplanes of U.S. registry.

We estimate the following costs to comply with this AD:

Estimated Costs
Action | Labor cost | Parts cost | Cost per product | Cost on U.S. operators
Inspection and Clamp Replacement | 8 work-hours × $85 per hour = $680 | $500 | $1,180 | $193,520

We estimate the following costs to do any necessary repairs that would be required based on the results of the inspection. We have no way of determining the number of aircraft that might need this repair:

On-Condition Costs
Action | Labor cost | Parts cost | Cost per product
Inspection and Repair of the Pressure Bulkhead | 48 work-hours × $85 per hour = $4,080 | $0 | $4,080

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-23-06 The Boeing Company: Amendment 39-17262; Docket No. FAA-2012-0595; Directorate Identifier 2012-NM-055-AD.

(a) Effective Date

This AD is effective December 31, 2012.

(b) Affected ADs

None.

(c) Applicability

This AD applies to The Boeing Company Model 777-200, -200LR, -300, -300ER, and 777F series airplanes, certificated in any category, as identified in Boeing Alert Service Bulletin 777-24A0119, dated November 11, 2011.

(d) Subject

Joint Aircraft System Component (JASC)/Air Transport Association (ATA) of America Code 2421; AC Generator-Alternator.

(e) Unsafe Condition

This AD was prompted by reports of failure of wire support clamps in the forward section of the aft pressure bulkhead. We are issuing this AD to prevent failure of the clamp, which could result in wire chafing and potential arcing and consequent fire in section 48 (a flammable fluid leakage zone) or heat damage to the auxiliary power unit (APU) power feeder cable, insulation blankets, or pressure bulkhead.

(f) Compliance

Comply with this AD within the compliance times specified, unless already done.

(g) Detailed Inspection of the Clamps

Within 48 months after the effective date of this AD: Do a detailed inspection of the clamps on the APU power feeder cable to determine if TA027063 clamps are installed, and all applicable related investigative and corrective actions, in accordance with the Accomplishment Instructions of Boeing Alert Service Bulletin 777-24A0119, dated November 11, 2011, except as required by paragraphs (h) and (i) of this AD. Do all related investigative and corrective actions before further flight.

(h) Exception to the Service Information

If during any inspection of the fuselage structure required by paragraph (g) of this AD, no primer discoloration or structural deterioration is found, before further flight, repair the APU power feeder cable and insulation blanket and replace the existing clamps, in accordance with steps 3.B.7, 3.B.8, and 3.B.9 of the Accomplishment Instructions of Boeing Alert Service Bulletin 777-24A0119, dated November 11, 2011.

(i) Repair Approval

Where Boeing Alert Service Bulletin 777-24A0119, dated November 11, 2011, specifies to do the repair in accordance with the instruction from Boeing, before further flight, repair using a method approved in accordance with the procedures specified in paragraph (j) of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any structural repair required by this AD if it is approved by the Boeing Commercial Airplanes Organization Designation Authorization (ODA) that has been authorized by the Manager, Seattle ACO, to make those findings. For a structural repair method to be approved, the repair must meet the certification basis of the airplane, and the approval must specifically refer to this AD.

(k) Related Information

For more information about this AD, contact Georgios Roussos, Aerospace Engineer, Systems and Equipment Branch, ANM-130S, FAA, Seattle Aircraft Certification Office, 1601 Lind Avenue SW., Renton, WA 98057-3356; phone: (425) 917-6482; fax: (425) 917-6590; email: georgios.roussos@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 777-24A0119, dated November 11, 2011.

(ii) Reserved.

(3) For Boeing service information identified in this AD, contact Boeing Commercial Airplanes, Attention: Data & Services Management, P.O. Box 3707, MC 2H-65, Seattle, Washington 98124-2207; telephone 206-544-5000, extension 1; fax 206-766-5680; Internet https://www.myboeingfleet.com.

(4) You may view this service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 8, 2012.
Ali Bahrami,
Manager, Transport Airplane Directorate, Aircraft Certification Service.

[FR Doc. 2012-27908 Filed 11-23-12; 8:45 am]

BILLING CODE 4910-13-P